AGENCY FOR INTERNATIONAL DEVELOPMENT

Notice of May 23, 2022 Meeting of the Board for International Food and Agricultural Development

AGENCY: Agency for International Development.

ACTION: Notice of meeting; request for comment.

Pursuant to the Federal Advisory Committee Act, notice is hereby given of a public meeting of the Board for International Food and Agricultural Development (BIFAD), The Global Food Security Crisis: Exploring the Evidence Base and Lessons from the Past to Strengthen Agricultural, Nutrition, and Food Systems in the Face of Shocks. The meeting will be held on May 23, 2022 from 12:00 to 2:30 EDT online, with designated times for public comment from 1:30-1:50 p.m. EDT and from 2:15-2:20 p.m. EDT. The meeting will be livestreamed via Zoom (registration required) and accessible at the following link: https://us06web.zoom.us/webinar/register/WN_vCZ3oZYDTAyEEcq14OwKIA.

The BIFAD is a seven-member, presidentially appointed advisory board to USAID established in 1975 under Title XII of the Foreign Assistance Act, as amended, to ensure that USAID brings the assets of U.S. universities to bear on development challenges in agriculture and food security and supports their representation in USAID programming. This will be the first public meeting of BIFAD members appointed by President Joseph Biden on January 14, 2022 and will include an introduction to newly appointed BIFAD members, a briefing on BIFAD's current work plan priorities, and an overview of key upcoming initiatives. Public comment is invited to further inform BIFAD's work.

In the face of short-term and long-term shocks, fragile food systems are driving increases in poverty, hunger, and child stunting. The global effort to end hunger and poverty is at a critical moment, with Russia's invasion of Ukraine adding to an already-compounded global food crisis as countries struggle to recover from the impacts of COVID-19, humanitarian emergencies and climate change.

What does it mean to get ahead of future crises and to build resilient food systems? What are the lessons learned from previous crises, including the COVID-19 pandemic and the 2007-2008 global food price crisis? BIFAD will take stock of evidence around these questions and identify weak links in food systems that must be strengthened to respond to global food security crises and to mitigate the impacts of current and future shocks. Food systems, nutrition, and humanitarian assistance experts will share lessons learned about resilience in the face of these disruptions. Evidence-based recommendations from these deliberations will inform USAID strategy implementation, policy, and programming.

For questions about registration, please contact Carol Chan at carol.chan@tetratech.com. For questions about BIFAD, or to submit written public comments in advance, please contact Clara Cohen, Designated Federal Officer for BIFAD in the Bureau for Resilience and Food Security at USAID. Interested persons may email her at ccohen@usaid.gov or telephone her at (202) 712-0119.

Clara Cohen,
Designated Federal Officer, BIFAD.

[FR Doc. 2022-09707 Filed 5-5-22; 8:45 am]

BILLING CODE 6116-01-P